GENERAL SERVICES ADMINISTRATION

41 CFR Part 302-17

[FTR Amendment 98]

RIN 3090-AG93

Federal Travel Regulation; Relocation Allowances

Correction

In correction document C1-27764 beginning on page 7219 in the issue of Friday, February 15, 2002, make the following correction:

§ 302-17.8 [Corrected]

1. On page 7219, in the third column, number 10. correction in § 302-17.8 should read as follows:

“10. On the same page, in the same column, the equation should read:z

Z= .5957($21,800)−.9306($5,450)

Z= $12,986.26−$5,071.77

Z= $7,914.49”

[FR Doc. C1-27764 Filed 2-26-02; 8:45 am]

BILLING CODE 1505-01-Dz

LIBRARY OF CONGRESS

Copyright Office

37 CFR Part 201

[Docket No. RM 2002-1]

Notice of Recordkeeping for Use of Sound Recordings Under Statutory License

Correction

In proposed rule document 02-2842 beginning on page 5761, in the issue of Thursday, February 7, 2002, make the following corrections:z

1. On page 5761, in the first column, the docket number is corrected to read as set forth above.

2. On page 5766, in the first column, in paragraph (Q), in the fourth line, “(P)” should read, “℗”.

3. On the same page, in the third column, in paragraph (4)((xii), in the fourth line “© (P))” should read, “℗”.

[FR Doc. C2-2842 Filed 2-26-02; 8:45 am]

BILLING CODE 1505-01-D